DEPARTMENT OF THE INTERIOR

Bureau of Indian Affairs

Land Acquisitions; Puyallup Tribe of Washington

AGENCY: Bureau of Indian Affairs, Interior.

ACTION: Notice of final agency determination.

SUMMARY: The Assistant Secretary—Indian Affairs made a final agency determination to acquire a 13.9-acre tract of land into trust for the Puyallup Tribe of Washington (Tribe) on November 10, 2010.

FOR FURTHER INFORMATION CONTACT: Paula L. Hart, Director, Office of Indian Gaming, Bureau of Indian Affairs, MS-3657 MIB, 1849 C Street, NW., Washington, DC 20240; Telephone (202) 219-4066.

SUPPLEMENTARY INFORMATION: This notice is published to comply with the requirements of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On November 10, 2010, the Assistant Secretary—Indian Affairs decided to accept a 13.9-acre tract of land into trust for the Puyallup Tribe of Washington under the authority of the Indian Reorganization Act of 1934, 25 U.S.C. 465. The 13.9-acre tract is located within the exterior boundaries of the Puyallup Reservation in Pierce County, Washington. The parcel is currently used for two (2) parking structures in support of the Tribe's existing Fife gaming facility.

The 13.9-acre tract located in Pierce County, Washington is described as follows:

PARCEL A: (0420072126)

Lot(s) 3, as shown on Short Plat No. 9103180301, which is an amendment of Short Plat Nos. 8502210395 and 8403080186, filed with Pierce County Auditor, in Pierce County, Washington.

Except that portion of Lot 3 conveyed to the State of Washington by Deeds recorded under Auditor's file number 689865 and 689858.

Together with the East half of the Northeast quarter of the Northwest quarter of Section 7, Township 20 North, Range 4 East of the W.M., in Pierce County, Washington, lying Northerly of Primary State Highway No. 1.

Except 62nd Avenue East.

PARCEL B: (0420067016, 0720067017)

Lots 1 and 2, as shown on Short Plat No. 9103180301, which is an amendment of Short Plat Nos. 8502210395 and 8403080186, filed with the Pierce County Auditor, in Pierce County, Washington.

Except those portions of Lots 1 and 2 conveyed to the State of Washington by Deeds recorded under Auditor's file numbers 689865 and 689858.

Also except that portion of Lot 1 conveyed to Pierce County by Deed recorded under Auditor's file number 9005140272.

PARCEL C: (0420072124)

That portion of the East 165.3 feet of the South 100 feet of the West one half of the Southeast one quarter of the Southwest one quarter of Section 6, Township 20 North, Range 4 East of the W.M., in Pierce County, Washington, lying South of the South line of Pacific Highway East (State Road No. 1) as conveyed to the State of Washington by deed recorded September 13, 1923 and November 19, 1923 under Auditor's file number 689858 and 689869.

Together with the East 165.3 feet of the North 409.6 feet of the West one half of the Northeast one quarter of the Northwest one quarter, Section 7, Township 20 North, Range 4 East of the W.M.

Except the West 10 feet of the South 209.6 feet thereof.

(Being revised Parcel A of Boundary Line Revisions recorded under recording number 9812185004)

PARCEL D: (0420072085)

Commencing at the Northeast corner of the Northwest Quarter of Section 7, Township 20 North, Range 4 East of the W.M., in Pierce County, Washington;

Thence West 778.38 feet;

Thence South 200 feet to the true point of beginning;

Thence West 155.3 feet to the West boundary of the East Half of the West Half of the Northeast Quarter of the Northwest Quarter of said Section;

Thence on said West Boundary line South 509.15 feet;

Thence East 154.7 feet;

Thence North 509.605 feet to the true point of beginning.

Except the North 136 feet thereof,

Also Except that portion of the above described property conveyed to the State of Washington for State Highway by Deed recorded under recording number 1877004.

PARCEL E: (0420063094)

That portion of the South 100 feet of the West Half of the West Half of the Southeast Quarter of the Southwest Quarter of Section 6, Township 20 North, Range 4 East of the W.M., lying South of the South line of Pacific Highway East (State Road No. 1) as conveyed to the State of Washington under Auditor's file number 689869 and 689858.

Except Dyslin County Road (58th Avenue East).

PARCEL F: (0420072035)

Beginning at the Northwest corner of the North Half of the West Half of the West Half of the Northeast Quarter of the Northwest Quarter of Section 7, Township 20 North, Range 4 East of the W.M. in Pierce County, Washington;

Thence on the West line of said subdivision South 259.50 feet to a line parallel with and 397 feet North of the South line of said subdivision;

Thence Easterly along said parallel line to the East line of said subdivision;

Thence North to the North line of said subdivision;

Thence West along said North line to the Point of Beginning;

Except the Westerly 30 feet thereof for 58th Avenue East (Dyslin County Road).

PARCEL G: (0420072069)

Beginning at the Northwest corner of the North Half of the West Half of the West Half of the Northeast Quarter of the Northwest Quarter of Section 7, Township 20 North, Range 4 East of the W.M. in Pierce County, Washington;

Thence on the West line of said subdivision South 355.50 feet to a line parallel with and 310 feet North of the South line of said subdivision, being the true point of beginning;

Thence on said parallel line East 148.00 feet;

Thence parallel with said West line South 78 feet, more or less, to a line parallel with and 145 feet Northerly, as measured at right angles to the centerline of Primary State Highway No. 1, Tacoma to King County line;

Thence on said parallel line East 148 feet to the West line of said subdivision;

Thence on said West line North 85 feet, more or less, to the true point of beginning;

Except the West 30 feet for Dyslin County Road.

PARCEL H: (0420072074)

That portion of Section 7, Township 20 North, Range 4 East of the W.M. described as follows:

Beginning at the Northwest corner of the North Half of the West Half of the West Half of the Northeast Quarter of the Northwest Quarter of Section 7, Township 20 North, Range 4 East of the W.M. in Pierce County, Washington;

Thence on the West line of said subdivision South 259.50 feet to a line parallel with and 397 feet North of the South line of said subdivision and the true point of beginning;

Thence continue on said West line South 96 feet;

Thence parallel with said South line East 148 feet;

Thence parallel with said West line South 78 feet more or less to a line parallel with and 145 feet Northerly, as measured at right angles to the centerline of Primary State Highway No. 1, Tacoma to King County line;

Thence on said parallel line Northeasterly to the East line of said subdivision;

Thence on said East line North 167 feet more or less to a line parallel with and 397 feet North of the South line of said subdivision;

Thence West on said parallel line to the point of beginning;

Except the West 30 feet for Dyslin County Road

PARCEL I: (0420072125)

The North 200 feet of the West 145.3 feet of the East 310.6 feet of the West Half of the Northeast Quarter of the Northwest Quarter of Section 7, Township 20 North, Range 4 East of the W.M. in Pierce County, Washington;

Together with that portion of the South 100 feet of West 145.3 feet of the East 310.6 feet of the West Half of the Southeast Quarter of the Southwest Quarter of Section 6, Township 20 North, Range 4 East of the W.M. in Pierce County, Washington, lying South of the South right-of-way line of State Road No. 1, as conveyed in instruments recorded under recording number 689869 and 689858.

Also Together with the North 136 feet of the following described property: Beginning at the Northeast corner of the Northwest Quarter of Section 7, Township 20 North, Range 4 East of the W.M. in Pierce County, Washington;

Thence West 788.38 feet;

Thence South 200 feet to the true point of beginning;

Thence West 145.3 feet to the West boundary of the East Half of the West Half of the Northeast Quarter of the Northwest Quarter of said Section;

Thence on said West boundary South 509.15 feet;

Thence East 144.7 feet;

Thence North 509.6 feet to the true point of beginning.

Also Together with a strip of land 10 feet in width lying East of and adjoining the North 136 feet of the following described property:

Beginning at the Northeast corner of the Northeast Quarter of the Northwest Quarter of Section 7, Township 20 North, Range 4 East of the W.M. in Pierce County, Washington;

Thence West 788.38 feet;

Thence South 200 feet to the true point of beginning;

Thence West 145.3 feet to the West boundary of the East Half of the West Half of the Northeast Quarter of the Northwest Quarter of said Section;

Thence on said West boundary South 509.15 feet;

Thence East 144.7 feet;

Thence North 509.6 feet to the true point of beginning.

Pierce County, Washington

Containing 13.9 acres, more or less.

This notice is published in the exercise of authority delegated by the Secretary of the Interior to the Assistant Secretary—Indian Affairs by 209 Departmental Manual 8.1.

Dated: November 12, 2010.
Larry Echo Hawk,
Assistant Secretary—Indian Affairs.

[FR Doc. 2010-29391 Filed 11-19-10; 8:45 am]

BILLING CODE 4310-4N-P